DEPARTMENT OF ENERGY

Federal Energy Regulatory Commission

[Docket No. EL14-74-000; Docket No. EL14-75-000]

Kansas City Power & Light Company, KCP&L Greater Missouri Operations Company; Notice of Institution of Section 206 Proceeding and Refund Effective Date

On July 17, 2014, the Commission issued an order in Docket Nos. EL14-74-000 and EL14-75-000, pursuant to section 206 of the Federal Power Act (FPA), 16 U.S.C. 824e (2012), instituting an investigation into the justness and reasonableness of Kansas City Power & Light Company and KCP&L Greater Missouri Operations Company's formula rate protocols under KCP&L Greater Missouri Operations Company's Open Access Transmission Tariff and Southwest Power Pool, Inc.'s Open Access Transmission Tariff. Kansas City Power & Light Co. and KCP&L Greater Missouri Operations Co., 148 FERC ¶ 61,034 (2014).

The refund effective date in Docket Nos. EL14-74-000 and EL14-75-000, established pursuant to section 206(b) of the FPA, will be the date of publication of this notice in the Federal Register.

Dated: July 17, 2014.
Nathaniel J. Davis, Sr.,
Deputy Secretary.

[FR Doc. 2014-17302 Filed 7-22-14; 8:45 am]

BILLING CODE 6717-01-P